DEPARTMENT OF ENERGY

Federal Energy Regulatory Commission

Combined Notice of Filings

Take notice that the Commission has received the following Natural Gas Pipeline Rate and Refund Report filings:

Filings Instituting Proceedings

Docket Numbers: RP17-887-000.

Applicants: Equitrans, L.P.

Description: Equitrans, L.P. submits tariff filing per 154.204: Enhanced Firm Transportation Service to be effective 8/5/2017.

Filed Date: 07/05/2017.

Accession Number: 20170705-5117.

Comment Date: 5:00 p.m. Eastern Time on Monday, July 17, 2017.

Docket Numbers: RP17-888-000.

Applicants: Alliance Pipeline L.P.

Description: Alliance Pipeline L.P. submits tariff filing per 154.204: Negotiated Rate PAL—2017-07 to be effective 7/6/2017.

Filed Date: 07/05/2017.

Accession Number: 20170705-5134.

Comment Date: 5:00 p.m. Eastern Time on Monday, July 17, 2017.

Docket Numbers: RP17-892-000.

Applicants: Destin Pipeline Company, L.L.C.

Description: Destin Pipeline Company, L.L.C. submits tariff filing per 154.204: Request for Negotiated Rate Authority to be effective 8/6/2017.

Filed Date: 07/07/2017.

Accession Number: 20170707-5177.

Comment Date: 5:00 p.m. Eastern Time on Wednesday, July 19, 2017.

Docket Numbers: RP17-893-000.

Applicants: Northern Natural Gas Company.

Description: Petition for Limited Waiver of Northern Natural Gas Company.

Filed Date: 07/07/2017.

Accession Number: 20170707-5192.

Comment Date: 5:00 p.m. Eastern Time on Wednesday, July 19, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2017.
Nathaniel J. Davis, Sr.,
Deputy Secretary.

[FR Doc. 2017-15058 Filed 7-17-17; 8:45 am]

BILLING CODE 6717-01-P